COMMISSION ON CIVIL RIGHTS

Sunshine Act Meeting Notice

AGENCY: Commission on Civil Rights.

Date and Time: Friday, May 9, 2003, 9:30 a.m.

Place: U.S. Commission on Civil Rights, 624 Ninth Street, NW., Room 540, Washington, DC 20425

Status:

Agenda

I. Approval of Agenda

II. Approval of Minutes of April 11, 2003 Meeting

III. Announcements

IV. Staff Director's Report

V. Funding Federal Civil Right Enforcement: 2004 Report

VI. State Advisory Committee Report on Arab and Muslim Civil Rights Issues in the Chicago Metropolitan Area: Post-September 11 (Illinois)

VI. Future Agenda Items

FOR FURTHER INFORMATION CONTACT: Les Jin, Press and Communications, (202) 376-7700.

Debra A. Carr,
Deputy General Counsel.

[FR Doc. 03-10992 Filed 4-30-03; 11:41 am]

BILLING CODE 6335-01-M